DEPARTMENT OF DEFENSE

Department of the Air Force

Notice of Intent Cancellation of Environmental Impact Statement on the Proposal To Relocate the 18th Aggressor Squadron From Eielson Air Force Base, Alaska to Joint Base Elmendorf-Richardson, Alaska

AGENCY: United States Air Force, Pacific Air Forces, DOD.

ACTION: Notice of Cancellation of Environmental Impact Statement.

SUMMARY: The Air Force is issuing this notice to advise the public that per direction of the Secretary of the Air Force, the Air Force is cancelling the preparation of an Environmental Impact Statement under the National Environmental Policy Act on its proposal to relocate the 18th Aggressor Squadron from Eielson AFB, Alaska to Joint Base Elmendorf-Richardson (JBER), Alaska, and for the Air Force to adjust the size of the remaining base operating support functions at Eielson. Cancellation notifications will also be made in Eielson AFB and JBER regions of influence.

DATES: This cancellation of the Environmental Impact Statement is effective upon publication of this notice in the Federal Register.

Previous Federal Register notices regarding this action included:

• Notice of Intent to prepare an EIS, January 18, 2013 (78 FR 4134)

• Notice of Availability of a draft EIS, May 31, 2013 (78 FR 32645)

• Notice of Extension of the public comment period August 7, 2013 (78 FR 48151)

For further information, contact: Ms. Toni Ristau, AFCEC/CZN, 2261 Hughes Ave., Ste. 155, Lackland AFB, TX 78236-9853, Telephone: (210) 925-2738.

Henry Williams,
Acting Air Force Federal Register Liaison Officer.

[FR Doc. 2014-13721 Filed 6-11-14; 8:45 am]

BILLING CODE 5001-10-P